DEPARTMENT OF TRANSPORTATION

Office of the Secretary

[Docket Number: DOT-OST-2015-0123]

Request for OMB Clearance of a New Information Collection; New Information Collection: Women and Girls in Transportation Initiative lntemship Volunteer Program

AGENCY: Office of the Secretary (OST), U.S. Department of Transportation (DOT).

ACTION: 60-Day Notice; Letter of public notification of the Women and Girls in Transportation Initiative lnternship Volunteer Program (WITIIP) information collection activity.

SUMMARY: In compliance with the Paperwork Reduction Act of 1995, Public law 104-13 (44 U.S.C. 3501 et seq) this notice announces the Information Collection Request on DOT Form OST 1250.1 Application for Transportation Internship, DOT Form OST 1250.1A Student Internship Evaluation, and DOT Form OST 1250.18 Internship Evaluation for this new DOT program.

Executive Order 13506, (“EO 13506”) dated March 11, 2009, entitled “Establishing a White House Council on Women and Girls”. EO 13506 requires Federal agencies to address issues that particularly impact the lives of women and girls and to ensure that Federal programs and policies address and take into account the distinctive concerns of women and girls, including women of color and those with disabilities. Furthermore, EO 13506 points specifically to the fact that women are still significantly underrepresented in the science, engineering, and technology fields. In response to EO 13506, DOT established the WITI. The WITI encourages women and girls to pursue careers in the science, technology, engineering, and mathematics fields and enter the transportation industry through outreach and the provision of transportation-related internship opportunities. The program is administered by the DOT OST Office of Small and Disadvantaged Business Utilization (OSDBU).

FOR FURTHER INFORMATION CONTACT: For further information concerning this notice, contact Michelle Harris, Manager, Regional Assistance Division, OSDBU, U.S Department of Transportation, 1200 New Jersey Ave, SE., Room W56-444, Washington, DC 20590. Telephone: 1-800-532-1169 or 202-366-1930. Email: michelle.harris@dot.gov.

SUPPLEMENTARY INFORMATION: Title: Women and Girls in Transportation Initiative lnternship Volunteer Program Application for lnternship Volunteer.

Catalog of Federal Domestic Assistance Number: 20.907 Women and Girls in Transportation Initiative.

OMB Control Number: 2105-XXXX.

Form Number: OST F 1250.1.

Affected Public: Female students currently enrolled in a participating institution of education with a 2.8 Grade Point Average or higher.

Frequency: One-time.

Estimated Average Burden per Response: 2 hours.

Estimated Annual Burden Hours: 660 hours.

Abstract: The information collected will be from female students currently enrolled in a participating institution of education with a 2.8 Grade Point Average or higher. The information collected will be used by DOT OSDBU to verify eligibility and process the application. The information being collected relates the name of the student; gender; full street address; email address; phone number; school name; school address; current Grade Point Average; expected graduation date; major area of study; minor area of study; and a professor's evaluation of the student's critical skills and the professor's recommendation. A copy of the student's most current transcript will be collected to verify the student's enrollment status and Grade Point Average. A one-page letter of interest will be collected in order to select the best candidates for the different transportation-related internships available.

Title: Women and Girls in Transportation Initiative lnternship Volunteer Program Student Evaluation.

Catalog of Federal Domestic Assistance Number: 20.907 Women and Girls in Transportation initiative lnternship Volunteer Program.

OMB Control Number: 2105-XXXX.

Form Number: OST F 1250.1A.

Affected Public: Transportation-related internship/volunteer providers.

Frequency: One-time.

Estimated Average Burden per Response: 2 hours.

Estimated Annual Burden Hours: 660 hours.

Abstract: The information collected will be from internship/volunteer providers at the conclusion of the student's transportation-related internship/volunteer opportunity. The information collected will be used by participating educational institutions to verify successful completion of the internship for academic credit, if offered. The evaluation will also be used by DOT OSDBU to verify successful completion of the internship/volunteer position to evaluate the student's performance in the event the students apply for future internship/volunteer opportunities offered by the program. The information collected will also be used by the intern to identify their strengths and areas of improvement. The information being collected relates the name of the organization; full street address; name of the supervisor and evaluator; internship semester; date the internship/volunteer positon concluded; internship description; intern's name, major area of study, and school name. The information collected also relates the evaluation of the student's performance of the performance elements; evaluation of the student's strengths and weaknesses; evaluator's general comments; and the internship/volunteer provider's willingness to host future interns.

Title: Women and Girls Internship in Transportation lnternship Volunteer Program Evaluation.

Catalog of Federal Domestic Assistance Number: 20.907 Entrepreneurial Training and Technical Assistance Women and Girls Program.

OMB Control Number: 2105-XXXX.

Form Number: OST F 1250.18.

Affected Public: WITI student interns/volunteers.

Frequency: One-time.

Estimated Average Burden per Response: 2 hours.

Estimated Annual Burden Hours: 660 hours.

Abstract: The information collected will be from student interns/volunteers at the conclusion of the student's transportation-related internship/volunteer experience. The information collected will be used by DOT OSDBU to evaluate internship/volunteer providers and the student's experience to improve the WIT! and possibly identify potential problem internship/volunteer providers. The information being collected relates the name of the student's major area of study, and school name; internship provider's name, full mailing address; intern/volunteer's supervisor; internship/volunteer semester; date the position concluded; and internship/volunteer description. The information collected also relates the evaluation of the internship/volunteer provider and internship/volunteer experience; suggested WITI improvements; evaluator's general comments; and the intern's willingness to apply for future opportunities.

Brandon Neal,
Director, Office of Small and Disadvantaged Business Utilization.

[FR Doc. 2015-14031 Filed 6-8-15; 8:45 am]

BILLING CODE 4910-9X-P